DEPARTMENT OF AGRICULTURE

Animal and Plant Health Inspection Service

7 CFR Part 353

[Docket No. APHIS-2006-0122]

RIN 0579-AC43

Export Certification for Wood Packaging Material

AGENCY: Animal and Plant Health Inspection Service, USDA.

ACTION: Affirmation of interim rule as final rule.

SUMMARY: We are adopting as a final rule, without change, an interim rule that amended the export certification regulations to clarify that an International Standards for Phytosanitary Measures No. 15 (ISPM 15) quality/treatment mark is an industry-issued certificate and thus may be issued only when the organization applying the mark has entered into an agreement with the Animal and Plant Health Inspection Service. The interim rule also removed all references to a certificate of heat treatment from the regulations because such certificates have been replaced by the ISPM 15 quality/treatment mark. The interim rule was necessary to ensure the appropriate issuance of the ISPM 15 quality/treatment mark.

DATES: Effective on October 30, 2007, we are adopting as a final rule the interim rule published at 72 FR 35915-35917 on July 2, 2007.

FOR FURTHER INFORMATION CONTACT: Mr. John Tyrone Jones II, Forestry Trade Director, Phytosanitary Issues Management Team, PPQ, APHIS, 4700 River Road Unit 140, Riverdale, MD 20737-1231; (301) 734-8860.

SUPPLEMENTARY INFORMATION:

Background

In an interim rule ¹ effective and published in the Federal Register on July 2, 2007 (72 FR 35915-35917, Docket No. APHIS-2006-0122), we amended the export certification regulations in 7 CFR part 353 by clarifying that an International Standards for Phytosanitary Measures No. 15 (ISPM 15) quality/treatment mark is an industry-issued certificate and thus may be issued only when the organization applying the mark has entered into an agreement with the Animal and Plant Health Inspection Service.

¹ To view the interim rule and the comment we received, go to http://www.regulations.gov/fdmspublic/component/main?main=DocketDetail&d=APHIS-2006-0122.

Comments on the interim rule were required to be received on or before August 31, 2007. We received one comment by that date. The comment was from a State department of natural resources and supported the interim rule. Therefore, for the reasons given in the interim rule, we are adopting the interim rule as a final rule.

This action also affirms the information contained in the interim rule concerning Executive Order 12866 and the Regulatory Flexibility Act, Executive Orders 12372 and 12988, and the Paperwork Reduction Act. Further, for this action, the Office of Management and Budget has waived its review under Executive Order 12866.

List of Subjects in 7 CFR Part 353

Exports, Plant diseases and pests, Reporting and recordkeeping requirements.

PART 353—EXPORT CERTIFICATION

Accordingly, we are adopting as a final rule, without change, the interim rule that amended 7 CFR part 353 and that was published at 72 FR 35915-35917 on July 2, 2007.

Done in Washington, DC, this 24th day of October 2007.
Kevin Shea,
Acting Administrator, Animal and Plant Health Inspection Service.

[FR Doc. E7-21316 Filed 10-29-07; 8:45 am]

BILLING CODE 3410-34-P